DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: Application for Designation of a Fair.

OMB Control Number: 0625-0228.

Form Number(s): ITA-4135P.

Type of Request: Regular submission.

Burden Hours: 100.

Number of Respondents: 200.

Average Hours per Response: 30 minutes.

Needs and Uses: The International Trade Administration's Tourism Industries Office offers trade fair guidance and assistance to trade fair organizers, trade fair operators, and other travel and trade oriented goods. These fairs open doors to promising travel markets around the world. The “Application for Designation of a Fair” is a questionnaire that is prepared and signed by an organizer to provide details such as the date, place, and sponsor of the Fair, as well as license, permit, and corporate backers, and participating countries.

To apply for the U.S. Department of Commerce sponsorship, the fair organizer must have all of the components of the application in order. Then, with the approval, the organizer is able to bring in their products in accordance with Customs laws. The articles which may be brought in include, but are not limited to, actual exhibit booths, exhibit items, pamphlets, brochures, and explanatory material in reasonable quantities relating to the foreign exhibits at a fair, and material for use in constructing, installing, or maintaining foreign exhibits at a fair.

Affected Public: Business or other for-profit organizations.

Frequency: On occasion.

Respondent's Obligation: Voluntary.

OMB Desk Officer: Wendy Liberante, (202) 395-3647.

Copies of the above information collection proposal can be obtained by calling or writing Diana Hynek, Departmental Paperwork Clearance Officer, Department of Commerce, Room 6616, 14th and Constitution Avenue, NW., Washington, DC 20230 (or via the Internet at dHynek@doc.gov.)

Written comments and recommendations for the proposed information collection should be sent within 30 days of publication of this notice to Wendy Liberante, OMB Desk Officer, Fax number (202) 395-5806 or via the Internet at wliberante@omb.eop.gov.

Dated: August 20, 2010.
Gwellnar Banks,
Management Analyst, Office of the Chief Information Officer.

[FR Doc. 2010-21101 Filed 8-24-10; 8:45 am]

BILLING CODE 3510-FP-P